DEPARTMENT OF COMMERCE

Foreign-Trade Zones Board

[Docket 1-2005]

Foreign-Trade Zone 45—Portland, OR, Application for Subzone, Epson Portland Inc. (Inkjet Cartridges), Hillsboro, OR

An application has been submitted to the Foreign-Trade Zones Board (the Board) by the Port of Portland, grantee of FTZ 45, requesting special-purpose subzone status for the inkjet cartridge manufacturing facility of Epson Portland Inc. (EPI), in Hillsboro, Oregon. The application was submitted pursuant to the provisions of the Foreign-Trade Zones Act, as amended (19 U.S.C. 81a-81u), and the regulations of the Board (15 CFR part 400). It was formally filed on January 4, 2005.

The EPI facility (1 building, 184,492 sq. ft. on 16.61 acres) is located at 3950 Aloclek Place, Hillsboro, Oregon. The EPI plant (455 employees) is used for warehousing and manufacturing of inkjet cartridges (which includes the production of plastic injection molded cartridge parts); activities which EPI is proposing to perform under FTZ procedures.

Foreign-sourced materials will account for some 50 to 55 percent of total materials used in production, and may include items from the following general categories: ink (HTSUS 3215.11 and 3215.19), cleaning liquid for printers (3402.19), polypropylene colorant (3901.20), polypropylene resins (3902.30), labels and label tape (3919.90), sealing film (3920.10), tape (3920.62), silicone sheet (3920.99), urethane foam (3921.13), poly bags (3923.21), seals (4016.93), vent film (5911.10), seals/valves/springs (7320.10), nylon filters (8421.19), and ink degassing modules (8421.21).

Zone procedures would exempt EPI from Customs duty payments on foreign materials used in production for export. Some 60 percent of the plant's shipments are currently exported. On domestic sales, the company would be able to choose the duty rates that apply to the finished products (HTSUS 8473.30, duty-free), rather than the duty rates that would otherwise apply to the foreign-sourced materials noted above (duty-free to 6.5%, weighted average—3.4%). The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th Street, NW., Washington, DC 20005; or

2. Submissions via the U.S. Postal Service: Foreign-Trade-Zones Board, U.S. Department of Commerce, FCB—Suite 4100W, 1401 Constitution Avenue, NW., Washington, DC 20230.

The closing period for their receipt is March 21, 2005. Rebuttal comments in response to material submitted during the foregoing period may be submitted during the subsequent 15-day period (to April 4, 2005).

A copy of the application and accompanying exhibits will be available for public inspection at the Office of the Foreign-Trade Zones Board's Executive Secretary at address Number 1 listed above, and at the U.S. Department of Commerce Export Assistance Center, One World Trade Center, 121 S.W. Salmon Street, Suite 242, Portland, Oregon 97204.

Dated: January 6, 2005.
Dennis Puccinelli,
Executive Secretary.

[FR Doc. 05-937 Filed 1-14-05; 8:45 am]

BILLING CODE 3510-DS-P